DEPARTMENT OF COMMERCE

National Oceanic and Atmospheric Administration

[I.D. 101003E]

Proposed Information Collection; Comment Request; NOAA's Teacher-At-Sea Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 15, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Jennifer Hammond at 1315 East West Highway, Rm 12746, Silver Spring, MD 20910; at 301-713-3418, ext. 138; or at jennifer.hammond@noaa.gov.

SUPPLEMENTARY INFORMATION:

I. Abstract

The Teacher-At-Sea Program provides educators with the opportunity to participate in research projects aboard NOAA vessels and other vessels that conduct NOAA Research. The respondents are educators who provide information about themselves and their teaching situation. They also submit a follow-up report with ideas for classroom applications. Recommendations are also required.

II. Method of Collection

Application forms must be submitted. On-line forms can be filled-in, printed, and mailed. Persons with full Adobe Acrobat software can save the on-line form and submit it electronically.

III. Data

OMB Number: 0648-0283.

Form Number: None.

Type of Review: Regular submission.

Affected Public: Individuals or households.

Estimated Number of Respondents: 375.

Estimated Time Per Response: 45 minutes to read an complete application; 15 minutes to complete a Health Services Questionnaire; 15 minutes to deliver and discuss recommendation forms to persons who will fill them out; 15 minutes to complete a recommendation form; and 2 hours for a follow-up report.

Estimated Total Annual Burden Hours: 309.

Estimated Total Annual Cost to Public: $536.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 8, 2003.
Gwellnar Banks,
Management Analyst, Office of the Chief Information Officer.

[FR Doc. 03-26204 Filed 10-15-03; 8:45 am]

BILLING CODE 3510-12-S